ENVIRONMENTAL PROTECTION AGENCY

[OPP-2005-0294; FRL-7745-1]

The Association of American Pesticide Control Officials/State FIFRA Issues Research and Evaluation Group; Notice of Public Meeting

AGENCY: Environmental Protection Agency (EPA).

ACTION: Notice.

SUMMARY: The Association of American Pesticide Control Officials (AAPCO)/State FIFRA Issues Research and Evaluation Group (SFIREG) will hold a 2-day meeting, beginning on December 5, 2005 and ending December 6, 2005. This notice announces the location and times for the meeting and sets forth the tentative agenda topics.

DATES: The meeting will be held on Monday, December 5, 2005 through Tuesday, December 6, 2005 from 8:30 a.m. to 5 p.m. on Monday, December 5 and 8:30 a.m. to 12 p.m. on Tuesday, December 6, 2005.

ADDRESSES: The meeting will be held at the Doubletree Hotel, 300 Army Navy Drive, Crystal City, Arlington, VA.

FOR FURTHER INFORMATION CONTACT: Georgia A. McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are interested in SFIREG information exchange with EPA regarding important issues related to human health, environmental exposure to pesticides, and insight into EPA's decision-making process. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established an official public docket for this action under docket identification (ID) number OPP-2005-0294. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

The tentative agenda of issues to be discussed at the meeting includes:

1. Update on uses on mosquito misters.

2. Process for registering bio-decon products.

3. Antimicrobial Division/CDC strategy on foot spas.

4. Chlorpyrifos: Close out strategy.

5. Performance measures: Steering Committee assessment.

6. Endangered Species Program update.

7. Emergency disaster: Registrations.

8. Multinational pesticide registrations.

9. Update on X596 Recycling Standard.

10. Update on container management rulemaking.

11. EPA/SFIREG Coordination of issues with Annual Work Plan.

12. Update on data issues related to OPPIN.

13. OPP and OECA update.

14. Human Study Rule.

List of Subjects

Environmental protection. Pesticides and pest.

.

Dated: November 1, 2005.
William R. Diamond,
Director, Field and External Affairs Division, Office of Pesticide Program.

[FR Doc. 05-22383 Filed 11-8-05; 8:45 am]

BILLING CODE 6560-50-S